DEPARTMENT OF TRANSPORTATION

Federal Aviation Administration

14 CFR Part 39

[Docket No. FAA-2022-0595; Project Identifier MCAI-2021-01180-T; Amendment 39-22144; AD 2022-17-06]

RIN 2120-AA64

Airworthiness Directives; Airbus Defense and Space S.A. (Formerly Known as Construcciones Aeronauticas, S.A.) Airplanes

AGENCY: Federal Aviation Administration (FAA), Department of Transportation (DOT).

ACTION: Final rule.

SUMMARY: The FAA is superseding Airworthiness Directive (AD) 2021-16-07, which applied to certain Airbus Defense and Space S.A. Model C-212-CB, C-212-CC, C-212-CD, C-212-CE, C-212-CF, C-212-DE, and C-212-DF airplanes. AD 2021-16-07 required repetitive inspections of the left-hand (LH) and right-hand (RH) side center wing fairings at a certain frame, around the wing leading edge for discrepancies (cracks), and repair if necessary. This AD was prompted by a modification developed to reinforce the structure in the affected area, providing an optional terminating action for the repetitive inspections required by AD 2021-16-07. This AD continues to require the actions in AD 2021-16-07 and allows new optional terminating action for the repetitive inspections, as specified in a European Union Aviation Safety Agency (EASA) AD, which is incorporated by reference. The FAA is issuing this AD to address the unsafe condition on these products.

DATES: This AD is effective September 29, 2022.

The Director of the Federal Register approved the incorporation by reference of a certain publication listed in this AD as of September 29, 2022.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Airworthiness Products Section, Operational Safety Branch, 2200 South 216th St., Des Moines, WA. For information on the availability of this material at the FAA, call 206-231-3195. It is also available in the AD docket at https://www.regulations.gov by searching for and locating Docket No. FAA-2022-0595.

Examining the AD Docket

You may examine the AD docket at https://www.regulations.gov by searching for and locating Docket No. FAA-2022-0595; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Shahram Daneshmandi, Aerospace Engineer, Large Aircraft Section, FAA, International Validation Branch, 2200 South 216th St., Des Moines, WA 98198; telephone 206-231-3220; email shahram.daneshmandi@faa.gov.

SUPPLEMENTARY INFORMATION:

Background

EASA, which is the Technical Agent for the Member States of the European Union, has issued EASA AD 2020-0182R1, dated October 29, 2021 (EASA AD 2020-0182R1) (also referred to as the MCAI), to correct an unsafe condition for certain Airbus Defense and Space S.A. Model C-212-CB, C-212-CC, C-212-CD, C-212-CE, C-212-CF, C-212-DD, C-212-DE, C-212-DF, C-212-EE and C-212-VA airplanes. Model C-212-DD, C-212-EE, and C-212-VA airplanes are not certificated by the FAA and are not included on the U.S. type certificate data sheet; this AD therefore does not include those airplanes in the applicability.

The FAA issued a notice of proposed rulemaking (NPRM) to amend 14 CFR part 39 to supersede AD 2021-16-07, Amendment 39-21669 (86 FR 47210, August 24, 2021) (AD 2021-16-07). AD 2021-16-07 applied to certain Airbus Defense and Space S.A. Model C-212-CB, C-212-CC, C-212-CD, C-212-CE, C-212-CF, C-212-DE, and C-212-DF airplanes. The NPRM published in the Federal Register on June 2, 2022 (87 FR 33457). The NPRM was prompted by a report of cracks on the LH and RH side fuselage skin and on a certain frame underneath the skin, near the leading edge of the wing, and the development of a modification to reinforce the structure in the affected area. The NPRM proposed to continue to require the actions in AD 2021-16-07 and to allow new optional terminating action for the repetitive inspections, as specified in EASA AD 2020-0182R1.

The FAA is issuing this AD to address cracks on the LH and RH side fuselage skin and on FR 5 underneath the skin, near the leading edge of the wing, which could affect the structural integrity of the airplane. See the MCAI for additional background information.

Discussion of Final Airworthiness Directive

Comments

The FAA received no comments on the NPRM or on the determination of the cost to the public.

Conclusion

The FAA reviewed the relevant data and determined that air safety requires adopting this AD as proposed. Except for minor editorial changes, and any other changes described previously, this AD is adopted as proposed in the NPRM. None of the changes will increase the economic burden on any operator. Accordingly, the FAA is issuing this AD to address the unsafe condition on these products.

Related Service Information Under 1 CFR Part 51

EASA AD 2020-0182R1 specifies procedures for repetitive detailed visual inspections of the LH and RH side center wing fairings at FR 5, around the wing leading edge for discrepancies (cracks) and repair, and for a modification to reinforce the structure in the affected area, which terminates the repetitive inspections.

This material is reasonably available because the interested parties have access to it through their normal course of business or by the means identified in the ADDRESSES section.

Costs of Compliance

The FAA estimates that this AD affects 45 airplanes of U.S. registry. The FAA estimates the following costs to comply with this AD:

Estimated Costs for Required Actions
Action | Labor cost | Parts cost | Cost per product | Cost on U.S. operators
Retained actions from AD 2021-16-07 | 3 work-hours × $85 per hour = $255 | $0 | $255 | $11,475

The FAA has received no definitive data on which to base the cost estimates for the on-condition repairs specified in this AD.

Estimated Costs for Optional Actions
Labor cost | Parts cost | Cost per product
Up to 29 work-hours × $85 per hour = $2,465 | $14,464 | Up to $16,929.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-16-07, Amendment 39-21669 (86 FR 47210, August 24, 2021); and

b. Adding the following new AD:

2022-17-06 Airbus Defense and Space S.A. (Formerly Known as Construcciones Aeronauticas, S.A.): Amendment 39-22144; Docket No. FAA-2022-0595; Project Identifier MCAI-2021-01180-T.

(a) Effective Date

This airworthiness directive (AD) is effective September 29, 2022.

(b) Affected ADs

This AD replaces AD 2021-16-07, Amendment 39-21669 (86 FR 47210, August 24, 2021) (AD 2021-16-07).

(c) Applicability

This AD applies to Airbus Defense and Space S.A. (formerly known as Construcciones Aeronauticas, S.A.) Model C-212-CB, C-212-CC, C-212-CD, C-212-CE, C-212-CF, C-212-DE, and C-212-DF airplanes, certificated in any category, as identified in European Union Aviation Safety Agency (EASA) AD 2020-0182R1, dated October 29, 2021 (EASA AD 2020-0182R1).

(d) Subject

Air Transport Association (ATA) of America Code 53, Fuselage.

(e) Unsafe Condition

This AD was prompted by a report of cracks on the left-hand (LH) and right-hand (RH) side fuselage skin and on frame (FR) 5 underneath the skin, near the leading edge of the wing, and the development of a modification to reinforce the structure in the affected area. The FAA is issuing this AD to address cracks on the LH and RH side fuselage skin and on FR 5 underneath the skin, near the leading edge of the wing, which could affect the structural integrity of the airplane.

(f) Compliance

Comply with this AD within the compliance times specified, unless already done.

(g) Requirements

Except as specified in paragraph (h) of this AD: Comply with all required actions and compliance times specified in, and in accordance with, EASA AD 2020-0182R1.

(h) Exceptions to EASA AD 2020-0182R1

(1) Where EASA AD 2020-0182R1 refers to its effective date, this AD requires using the effective date of this AD.

(2) Where EASA AD 2020-0182R1 refers to refers to August 27, 2020 (the effective date of EASA AD 2020-0182), this AD requires using September 28, 2021 (the effective date of AD 2021-16-07).

(3) Where paragraph (2) of EASA AD 2020-0182R1 specifies to “contact Airbus D&S for approved instructions and accomplish those instructions accordingly” if discrepancies are detected, for this AD if any cracking is detected, the cracking must be repaired before further flight using a method approved by the Manager, Large Aircraft Section, International Validation Branch, FAA; or EASA; or Airbus Defense and Space S.A.'s EASA Design Organization Approval (DOA). If approved by the DOA, the approval must include the DOA-authorized signature.

(4) The “Remarks” section of EASA AD 2020-0182R1 does not apply to this AD.

(i) No Reporting Requirement

Although the service information referenced in EASA AD 2020-0182R1 specifies to submit certain information to the manufacturer, this AD does not include that requirement.

(j) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus Defense and Space S.A.'s EASA Design Organization Approval (DOA). If approved by the DOA, the approval must include the DOA-authorized signature.

(k) Related Information

For more information about this AD, contact Shahram Daneshmandi, Aerospace Engineer, Large Aircraft Section, FAA, International Validation Branch, 2200 South 216th St., Des Moines, WA 98198; telephone 206-231-3220; email shahram.daneshmandi@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0182R1, dated October 29, 2021.

(ii) [Reserved]

(3) For EASA AD 2020-0182R1, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on August 4, 2022.
Christina Underwood,
Acting Director, Compliance & Airworthiness Division, Aircraft Certification Service.

[FR Doc. 2022-18322 Filed 8-24-22; 8:45 am]

BILLING CODE 4910-13-P